DEPARTMENT OF DEFENSE

Department of the Army, Corps of Engineers

Record of Decision for the Remaining Balanced Vision Plan and Interior Drainage Plan Features Feasibility Report and Environmental Impact Statement, Dallas County, TX

AGENCY: Department of the Army, U.S. Army Corps of Engineers, DoD.

ACTION: Notice.

SUMMARY: The U.S. Army Corps of Engineers (USACE), Fort Worth District, is issuing this notice to advise Federal, state, and local governmental agencies and the public that USACE has signed a Record of Decision (ROD) for the Remaining Balanced Vision Plan (BVP) and Interior Drainage Plan (IDP) Features Feasibility Report and Final Environmental Impact Statement, in Dallas County, TX. This ROD was rendered to declare that a USACE action, a Section 408 Permission for the City of Dallas to alter the Dallas Floodway, is in the public interest.

DATES: The USACE Fort Worth District Commander, Colonel Calvin C. Hudson II, signed the ROD and Section 408 Permission on July 28, 2016.

ADDRESSES: U.S. Army Corps of Engineers, Regional Planning and Environmental Center, CESWF-PEC-CC (Attn: Mr. Jason Story), P.O. Box 17300, Room 3A12, Fort Worth, TX 76102-0300.

FOR FURTHER INFORMATION CONTACT: Jason Story, Environmental Resources Specialist, Regional Planning and Environmental Center. Email address: jason.e.story@usace.army.mil.

SUPPLEMENTARY INFORMATION: The City of Dallas has requested permission to construct the Dallas Floodway Project remaining BVP and IDP features in Dallas County, TX. These remaining BVP and IDP features will constitute an alteration of the existing Dallas Floodway, a USACE federally authorized civil works project that requires Title 33 United States Code, Section 408 (Section 408) compliance. The proposed alterations within the Dallas Floodway consist of ecosystem restoration, recreation, and interior drainage improvements. These alterations were analyzed in the Final Feasibility Report and disclosed in the Final Environmental Impact Statement dated December 2014, for the Dallas Floodway Project. This ROD addresses the USACE Section 408 Permission.

Douglas C. Sims,
Chief, Environmental Compliance Branch, Regional Planning and Environmental Center.

[FR Doc. 2016-22321 Filed 9-15-16; 8:45 am]

BILLING CODE 3720-58-P